DEPARTMENT OF ENERGY

Federal Energy Regulatory Commission

[Docket No. CP22-15-000]

Notice of Availability of the Draft Environmental Impact Statement for the Texas Eastern Transmission, LP Proposed Venice Extension Project

The staff of the Federal Energy Regulatory Commission (FERC or Commission) has prepared a draft environmental impact statement (EIS) for the Venice Extension Project, proposed by Texas Eastern Transmission, LP (Texas Eastern) in the above-referenced docket. Texas Eastern requests authorization to provide firm natural gas transportation service for up to 1,260,000 dekatherms per day on its existing Line 40 to an interconnection with a pipeline lateral to be constructed, owned, and operated by Venture Global Gator Express, LLC, with ultimate delivery to Venture Global Plaquemines LNG, LLC Liquified Natural Gas (LNG) Terminal, which is currently under development in Plaquemines Parish, Louisiana.

The draft EIS assesses the potential environmental effects of the construction and operation of the Venice Extension Project in accordance with the requirements of the National Environmental Policy Act. With the exception of climate change impacts, FERC staff concludes that approval of the proposed project, with the mitigation measures recommended in the EIS, would not result in significant environmental impacts. Climate change impacts are not characterized in the EIS as significant or insignificant because the Commission is conducting a generic proceeding to determine whether and how the Commission will conduct climate change significance determinations going forward. FERC staff is unable to determine the significance level of climate change impacts.

The draft EIS addresses the potential environmental effects of: the (i) construction and operation of an approximately 3.0-mile-long, 36-inch-diameter pipeline segment on Texas Eastern's Line 40 in Pointe Coupee Parish; (ii) abandonment in place of a 2.2-mile-long, 36-inch-diameter existing pipeline segment on Line 40 in Pointe Coupee Parish; (iii) construction of a new proposed 31,900 horsepower (hp) compressor station (New Roads Compressor Station) and metering and regulating (M&R) facilities in Pointe Coupee Parish; (iv) abandonment in place of the existing, inactive 19,800 hp compressor unit at Texas Eastern's existing White Castle Compressor Station in Iberville Parish, Louisiana, and the existing, inactive 19,800 hp compressor unit at its existing Larose Compressor Station in Lafourche Parish, Louisiana; (v) installation of one new 31,900 hp compressor unit and related appurtenances at both White Castle and Larose compressor stations; and (vi) upgrades at its Gator Express M&R ¹ facility on an open water platform in Plaquemines Parish.

The Commission mailed a copy of the Notice of Availability of the Draft Environmental Impact Statement for the Venice Extension Project to federal, state, and local government representatives and agencies; elected officials; environmental and public interest groups; Native American Tribes; potentially affected landowners and other interested individuals and groups; and newspapers and libraries in the project area. The draft EIS is only available in electronic format. It may be viewed and downloaded from the FERC's website (www.ferc.gov), on the natural gas environmental documents page (https://www.ferc.gov/industries-data/natural-gas/environmental-overview/environmental-documents-2022). In addition, the draft EIS may be accessed by using the eLibrary link on the FERC's website. Click on the eLibrary link (https://elibrary.ferc.gov/eLibrary/search), select “General Search,” and enter the docket number in the “Docket Number” field (i.e., CP22-15). Be sure you have selected an appropriate date range. For assistance, please contact FERC Online Support at FercOnlineSupport@ferc.gov or toll free at (866) 208-3676, or for TTY, contact (202) 502-8659.

The draft EIS is not a decision document. It presents Commission staff's independent analysis of the environmental issues for the Commission to consider when addressing the merits of all issues in this proceeding. Any person wishing to comment on the draft EIS may do so. Your comments should focus on the draft EIS's disclosure and discussion of potential environmental effects; measures to avoid or lessen environmental impacts; and the completeness of the submitted alternatives, information, and analyses. To ensure consideration of your comments on the proposal in the final EIS, it is important that the Commission receive your comments on or before 5:00 p.m. Eastern Time on November 7, 2022.

For your convenience, there are three methods you can use to submit your comments to the Commission. The Commission will provide equal consideration to all comments received, whether filed in written form or provided verbally. The Commission encourages electronic filing of comments and has staff available to assist you at (866) 208-3676 or FercOnlineSupport@ferc.gov. Please carefully follow these instructions so that your comments are properly recorded.

1. You can file your comments electronically using the eComment feature on the Commission's website (www.ferc.gov) under the link toFERC Online. This is an easy method for submitting brief, text-only comments on a project;

2. You can file your comments electronically by using the eFiling feature also on the Commission's website (www.ferc.gov) under the link to FERC Online. With eFiling, you can provide comments in a variety of formats by attaching them as a file with your submission. New eFiling users must first create an account by clicking on “eRegister.” If you are filing a comment on a particular project, please select “Comment on a Filing” as the filing type;

3. You can file a paper copy of your comments by mailing them to the Commission. Be sure to reference the project docket number (CP22-15-000) on your letter. Submissions sent via the United States Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852; or

Any person seeking to become a party to the proceeding must file a motion to intervene pursuant to Rule 214 of the Commission's Rules of Practice and Procedures (18 CFR 385.214). Motions to intervene are more fully described at https://www.ferc.gov/how-intervene. Only intervenors have the right to seek rehearing or judicial review of the Commission's decision. The Commission grants affected landowners and others with environmental concerns intervenor status upon showing good cause by stating that they have a clear and direct interest in this proceeding, which no other party can adequately represent. Simply filing environmental comments will not give you intervenor status, but you do not need intervenor status to have your comments considered.

Questions?

Additional information about the project is available from the Commission's Office of External Affairs, at (866) 208-FERC, or on the FERC website (www.ferc.gov) using the eLibrary link. The eLibrary eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://ferconline.ferc.gov/FERCOnline.aspx to register for eSubscription.

Dated: September 16, 2022.
Kimberly D. Bose,
Secretary.

[FR Doc. 2022-20525 Filed 9-21-22; 8:45 am]

BILLING CODE 6717-01-P